INTERNATIONAL TRADE COMMISSION

Sunshine Act Meeting; Notice

Agency Holding The Meeting: United States International Trade Commission.

Time and Date: July 22, 2004 at 10 a.m.

Place: Room 101, 500 E Street SW., Washington, DC 20436, Telephone: (202) 205-2000.

Status: Open to the public.

Matters to be Considered: 1. Agenda for future meetings: none.

2. Minutes.

3. Ratification List.

4. Inv. No. 731-TA-130 (Second Review)(Chloropicrin from China)—briefing and vote. (The Commission is currently scheduled to transmit its determination and Commissioners' opinions to the Secretary of Commerce on or before August 3, 2004.)

5. Inv. Nos. 731-TA-1084-1087 (Preliminary)(Purified Carboxymethylcellulose from Finland, Mexico, Netherlands, and Sweden)—briefing and vote. (The Commission is currently scheduled to transmit its determination to the Secretary of Commerce on or before July 26, 2004; Commissioners' opinions are currently scheduled to be transmitted to the Secretary of Commerce on or before August 2, 2004.)

6. Outstanding action jackets: none.

In accordance with Commission policy, subject matter listed above, not disposed of at the scheduled meeting, may be carried over to the agenda of the following meeting.

Issued: July 14, 2004.
By order of the Commission:
Marilyn R. Abbott,
Secretary to the Commission.

[FR Doc. 04-16405 Filed 7-15-04; 9:23 am]

BILLING CODE 7020-02-P